DEPARTMENT OF COMMERCE

International Trade Administration

[C-401-804]

Preliminary Results of Full Sunset Review: Cut-to-Length Carbon Steel Plate From Sweden

AGENCY: Import Administration, International Trade Administration, Department of Commerce.

SUMMARY: On November 1, 2005, the Department of Commerce (Department) initiated a sunset review of the countervailing duty (CVD) order on cut-to-length carbon steel plate from Sweden, pursuant to section 751(c) of the Tariff Act of 1930, as amended (the Act). On the basis of a notice of intent to participate and an adequate substantive response filed on behalf of the domestic interested parties and an adequate substantive response from respondent interested parties, the Department determined to conduct a full sunset review of this CVD order pursuant to section 751(c) of the Act and 19 CFR 351.218(d) and (e)(2). As a result of our analysis, the Department preliminarily finds that revocation of the CVD order would be likely to lead to continuation or recurrence of a countervailable subsidy at the level indicated in the “Preliminary Results of Review” section of this notice.

EFFECTIVE DATE: July 19, 2006.

FOR FURTHER INFORMATION CONTACT: Jacqueline Arrowsmith or Dana Mermelstein, AD/CVD Operations, Office 6, Import Administration, International Trade Administration, U.S. Department of Commerce, 14th Street & Constitution Avenue, NW., Washington, DC 20230; telephone: (202) 482-5255 or (202) 482-1391, respectively.

SUPPLEMENTARY INFORMATION:

Background

On November 1, 2005, the Department initiated a sunset review of the CVD order on cut-to-length carbon steel plate (CTL plate) from Sweden pursuant to section 751(c) of the Act. See Initiation of Five-year (“Sunset”) Reviews, 70 FR 65884 (November 1, 2005). The Department received a notice of intent to participate from the following domestic interested parties: Nucor Corporation (Nucor), IPSCO, Inc., Mittal Steel USA Inc., Oregon Steel Mills, Inc., and United Steel, Paper and Forestry, Rubber, Manufacturing, Energy, Allied Industrial and Service Workers International Union, AFL-CIO-CLC (USW) (collectively domestic interested parties), within the deadline specified in 19 CFR 351.218(d)(1)(i). The domestic interested parties claimed interested party status under section 771(9)(C) of the Act, as domestic producers of CTL plate in the United States. The Department received substantive responses from the domestic interested parties as well as from the following respondent interested parties: the Government of Sweden (GOS), the European Union Delegation of the European Commission (EC) and SSAB Svenskt St ål AB (SSAB).

On December 21, 2005, the Department determined that the participation of the respondent interested parties was adequate, and that it was appropriate to conduct a full sunset review. See Memorandum to Stephen J. Claeys, Deputy Assistant Secretary: Adequacy Determination; Sunset Review of the Countervailing Duty Order on Cut-to-Length Carbon Steel Plate from Sweden, dated December 21, 2005, on file in the Central Records Unit (CRU), Room B-099 of the Department of Commerce building. On February 10, 2006, the Department extended the time limit for the preliminary and final results of the sunset review of the CVD order on CTL plate from Sweden. See Cut-to-Length Carbon Steel Plate from Belgium, Sweden, and the United Kingdom; Extension of Time Limits for Preliminary and Final Results of Full Five-Year (“Sunset”) Reviews of Countervailing Duty Orders, 71 FR 7017 (February 10, 2006). The Department extended the preliminary results to no later than July 14, 2006, and the final results to no later than September 27, 2006.

Scope of the Order

The merchandise subject to the CVD order is certain cut-to-length carbon steel plate. These products include hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the United States Harmonized Tariff Schedule (HTS) under item numbers 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000, and 7212.50.0000. Included are flat-rolled products of nonrectangular cross-section where such cross-section is achieved subsequent to the rolling process (i.e., products which have been “worked after rolling”)—for example, products which have been bevelled or rounded at the edges. Excluded from this investigation is grade X-70 plate. The HTS item numbers are provided for convenience and customs purposes. The written description remains dispositive.

Analysis of Comments Received

All issues raised in this review are addressed in the “Issues and Decision Memorandum for Preliminary Results of Full Sunset Review of the Countervailing Duty Order on Cut-to-Length Carbon Steel Plate from Sweden” from Stephen J. Claeys, Deputy Assistant Secretary for Import Administration, to David M. Spooner, Assistant Secretary for Import Administration (Preliminary Decision Memorandum), dated concurrently with the notice and which is hereby adopted by this notice. Parties can find a complete discussion of all issues raised in this review and the corresponding recommendation in this public memorandum which is on file in the CRU Room B-099 of the main Commerce building. In addition, a complete version of the Preliminary Decision Memorandum can be accessed directly on the Web at http://ia.ita.doc.gov/frn. The paper copy and electronic version of the Preliminary Decision Memorandum are identical in content.

Preliminary Results of Review

The Department preliminarily determines that revocation of the CVD order would be likely to lead to continuation or recurrence of a countervailable subsidy. The net countervailable subsidy likely to prevail if the order were revoked is de minimis. Interested parties may submit case briefs and hearing requests no later than two weeks after the date of publication in accordance with 19 CFR 351.309 (c)(1)(i) and 19 CFR 351.310(c). Rebuttal briefs, which must be limited to issues raised in the case briefs, may be filed not later than five days from the filing of the case briefs, in accordance with 19 CFR 351.309(d). Any hearing, if requested, will be held on or about August 14, 2006. The Department will issue a notice of final results of this sunset review, which will include the results of our analysis of issues raised in any such comments, no later than September 27, 2006.

We are issuing and publishing these preliminary results and notice in accordance with sections 751(c), 752, and 777(i)(1) of the Act.

Dated: July 12, 2006.
David M. Spooner,
Assistant Secretary for Import Administration.

[FR Doc. E6-11455 Filed 7-18-06; 8:45 am]

BILLING CODE 3510-DS-P